DEPARTMENT OF JUSTICE

[OMB Number 1110-0045]

Agency Information Collection Activities; Proposed eCollection eComments Requested; Extension With Change, of a Previously Approved Collection FD-1000 Customer Satisfaction Assessment

AGENCY: Bureau of Investigation, Department of Justice.

ACTION: 60-Day notice.

SUMMARY: The Department of Justice (DOJ), FBI Laboratory, Federal Bureau of Investigation, will be submitting the following information collection request to the Office of Management and Budget (OMB) for review and approval in accordance with the Paperwork Reduction Act of 1995.

DATES: Comments are encouraged and will be accepted for 60 days until February 9, 2015.

FOR FURTHER INFORMATION CONTACT: If you have additional comments especially on the estimated public burden or associated response time, suggestions, or need a copy of the proposed information collection instrument with instructions or additional information, please contact Steven W. Perry, Statistician, Bureau of Justice Statistics, 810 Seventh Street NW., Washington, DC 20531 (phone: 202-307-0777).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: FBI Laboratory Customer Satisfaction Assessment

3. The agency form number, if any, and the applicable component of the Department sponsoring the collection: The form number is FD-1000. The applicable component within the Department of Justice is the Federal Bureau of Investigation, Laboratory Division.

4. Affected public who will be asked or required to respond, as well as a brief abstract: This information collection is an assessment of the FBI Laboratory services by law enforcement agencies (federal, state, and local) that submit evidence for examination. The information collected is used by FBI Laboratory management to evaluate the quality of the forensic services provided to law enforcement. Additionally, the FBI Laboratory is accredited by the American Society of Crime Laboratory Directors/Laboratory Accreditation Board (ASCLD/LAB) under the ASCLD/LAB-International Accreditation Program. A requirement for maintaining accreditation is for the FBI Laboratory to seek feedback, both positive and negative, from its customers. This feedback is evaluated to improve the services of the FBI Laboratory. The information gathered in the FD-1000 will meet this requirement.

5. An estimate of the total number of respondents and the amount of time estimated for an average respondent to respond: An estimated 3000 respondents will complete the assessment with an estimated range of burden for respondents to be 5 minutes for completion.

6. An estimate of the total public burden (in hours) associated with the collection: The estimated public burden associated with this collection is 250 hours. It is estimated that respondents will take 5 minutes to complete the assessment. The burden hours for collecting respondent data sum to 250 hours (3000 respondents × 5 minutes = 250 hours).

If additional information is required contact: Jerri Murray, Department Clearance Officer, United States Department of Justice, Justice Management Division, Policy and Planning Staff, Two Constitution Square, 145 N Street NE., 3E.405B, Washington, DC 20530.

Dated: December 4, 2014.
Jerri Murray,
Department Clearance Officer for PRA, U.S. Department of Justice.

[FR Doc. 2014-28784 Filed 12-8-14; 8:45 am]

BILLING CODE 4410-02-P